NUCLEAR REGULATORY COMMISSION

Advisory Committee on the Medical Uses of Isotopes: Meeting Notice

AGENCY: U.S. Nuclear Regulatory Commission.

ACTION: Updated notice of meeting.

SUMMARY: The U.S. Nuclear Regulatory Commission will convene a teleconference meeting of the Advisory Committee on the Medical Uses of Isotopes (ACMUI) on May 23, 2006. The topic of the discussions will be: (1) Amendment to the ACMUI's Bylaws; (2) Potential Changes to 10 CFR part 35.

Purpose: Discuss issues related to 10 CFR part 35, Medical Use of Byproduct Material.

Date and Time for Closed Session Meeting: May 23, 2006, from 2:30 p.m. to 3 p.m. Eastern standard Time. This session will be closed so that NRC staff and ACMUI members can discuss information relating solely to internal personnel rules.

Dates and Times for Public Meetings: May 23, 2006, from 3 p.m. to 5 p.m. Eastern Standard Time.

Public Information: Any member of the public who wishes to participate in the teleconference discussion may contact Mohammad S. Saba for contact information.

Conduct of Meeting: Leon S. Malmud, M.D., will chair the meeting. Dr. Malmud will conduct the meeting in a manner that will facilitate the orderly conduct of business. The following procedures apply to public participation in the meeting:

1. Persons who wish to provide a written statement should submit a reproducible copy to Mohammad S. Saba, U.S. Nuclear Regulatory Commission, Mail Stop T8F03, Washington, DC 20555. Alternatively, an e-mail can be submitted to mss@nrc.gov. Submittals must be postmarked or e-mailed by May 15, 2006, and must pertain to the topics on the agenda for the meeting.

2. Questions from members of the public will be permitted during the meeting, at the discretion of the Chairman.

3. The transcript and written comments will be available for inspection on NRC's web site (http://www.nrc.gov) and at the NRC Public Document Room, 11555 Rockville Pike, Rockville, MD 20852-2738, telephone (800) 397-4209, on or about August 20, 2006.

This meeting will be held in accordance with the Atomic Energy Act of 1954, as amended (primarily section 161a); the Federal Advisory Committee Act (5 U.S.C. App); and the Commission's regulations in Title 10, U.S. Code of Federal Regulations, part 7.

Dated at Rockville, Maryland, ths 3rd day of May 2006.
For the Nuclear Regulatory Commission.
Andrew L. Bates,
Advisory Committee Management Officer.

[FR Doc. E6-6996 Filed 5-8-06; 8:45 am]

BILLING CODE 7590-01-P